DEPARTMENT OF ENERGY

Federal Energy Regulatory Commission

[Docket No. OR07-16-000]

Notice of Complaint; Tesoro Refining and Marketing Company, Complainant v. Calnev Pipe Line, L.L.C., Respondent

August 2, 2007.

Take notice that on August 1, 2007, Tesoro Refining and Marketing Company (Tesoro) filed a formal complaint against Calnev Pipe Line, L.L.C. (Calnev) pursuant to Rule 206 of the Rules of Practice and Procedure of the Commission's regulations, 18 CFR 385.206; the Procedural Rules Applicable to Oil Pipeline Proceedings, 18 CFR 343.2, 1(5), 8, 9, 13, 15, and 16 of the Interstate Commerce Act, 49 U.S.C. App. 1(5), 8, 9, 13, 15 and 16 (1984); and section 1803 of the Energy Policy Act of 1992 (EPAct).

Complainant alleges that Calnev has consistently over-recovered its cost of service since at least 2004 and, therefore, was not entitled to increase its rates using indexation methodology in 2005, 2006, and 2007. Complainant requests that the Commission determine that the rates established by Calnev are unjust and unreasonable; prescribe new rates that are just and reasonable for the shipment of refined petroleum products from Colton, CA to McCarran International Airport and North Las Vegas, NV; determine that Calnev overcharged Tesoro for shipments of jet fuel from Colton, CA to McCarran nternational Airport, NV from at least July 1, 2005, to the present date and is continuing to overcharge Tesoro for such shipments; order Calnev to pay refunds, reparations and damages, plus interest, to Tesoro for shipments made by Tesoro under each of the relevant tariffs; determine that section 1803 of the EPAct does not prevent Tesoro from filing its Complaint or the Commission from ordering the relief requested; and grant Tesoro such other, different or additional relief as the Commission may determine to be appropriate.

Tesoro certifies that copies the complaint were served on the contacts for Calnev as list on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 21, 2007.

Kimberly D. Bose,
Secretary.

[FR Doc. E7-15524 Filed 8-8-07; 8:45 am]

BILLING CODE 6717-01-P